ENVIRONMENTAL PROTECTION AGENCY

[EPA-HQ-OPPT-2016-0022; FRL-9945-54]

Certain New Chemicals; Receipt and Status Information for March 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from March 1, 2016 to March 31, 2016.

DATES: Comments identified by the specific case number provided in this document, must be received on or before June 1, 2016.

ADDRESSES: Submit your comments, identified by docket identification (ID) number EPA-HQ-OPPT-2016-0022, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from March 1, 2016 to March 31, 2016, and consists of the PMNs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 58 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From March 1, 2016 to March 31, 2016
Case No. | Received date | Projected notice end date | Manufacturer importer | Use | Chemical
P-16-0086 | 3/24/2016 | 6/22/2016 | CBI | (G) Coating component | (G) Mixed metal oxide-halide complex.
P-16-0130 | 3/18/2016 | 6/16/2016 | CBI | (G) Polymeric dye carrier | (G) Amide ester polymer.
P-16-0130 | 3/18/2016 | 6/16/2016 | CBI | (G) Intermediate for a polymeric dye carrier | (G) Amide ester polymer.
P-16-0137 | 3/16/2016 | 6/14/2016 | H.B.Fuller Company | (G) Industrial adhesive | (S) Dicarboxylic acid polymers with alkane diols and desmodur e23.
P-16-0138 | 3/16/2016 | 6/14/2016 | H.B.Fuller Company | (G) Industrial adhesive | (S) Dicarboxylic acid polymers with alkane diols and e23.
P-16-0186 | 3/16/2016 | 6/14/2016 | CBI | (G) Surfactant | (G) Sodium branched chain alkyl hydroxyl and branched chain alkenyl sulfonates.
P-16-0193 | 3/10/2016 | 6/8/2016 | CBI | (S) Intermediate | (G) Branched alkenes.
P-16-0204 | 3/4/2016 | 6/2/2016 | Gaco Western | (G) Reactant spray foam insulation | (G) Per acetoacetylated sucrose.
P-16-0218 | 3/4/2016 | 6/2/2016 | Gaco Western | (G) Reactant spray foam insulation | (G) Acetoacetylated glycerin.
P-16-0218 | 3/4/2016 | 6/2/2016 | Gaco Western | (G) Reactant architectural coating | (G) Acetoacetylated glycerin.
P-16-0219 | 3/4/2016 | 6/2/2016 | Gaco Western | (G) Reactant architectural coating | (G) Per acetoacetylated sorbitol.
P-16-0219 | 3/4/2016 | 6/2/2016 | Gaco Western | (G) Reactant spray foam insulation | (G) Per acetoacetylated sorbitol.
P-16-0231 | 3/11/2016 | 6/9/2016 | CBI | (G) Functional polymer used in industrial/commercial sealants adhesives and coatings | (G) Polysiloxane with functional groups.
P-16-0232 | 3/2/2016 | 5/31/2016 | CBI | (G) Lubricant additive | (G) Zinc, bis[2-(hydroxyl-ko)benzoate-ko]-,(t-4)-, ar, arã¿ã¿ã¿ã¿ã¿ã¿ã¿ã¿â¢ã¿ã¿ã¿ã¿ã¿ã¿ã¿ã¿ã¿ã¿ã¿ã¿ã¿ã¿ã¿ã¿-bis(alkyl) derivs.
P-16-0234 | 3/2/2016 | 5/31/2016 | CBI | (G) Site contained intermediate | (G) Benzoic acid, alkylol-, branched and linear, monosodium salts.
P-16-0237 | 3/1/2016 | 5/30/2016 | CBI | (G) Friction modifier | (S) 2-propenoic acid, dodecyl ester, polymer with 2-hydroxyethyl 2-propenoate.
P-16-0238 | 3/2/2016 | 5/31/2016 | H.B. Fuller Company | (G) Industrial adhesive | (G) Soybean oil, ester with tetra functional alcohol, polymer with 1,1'-methylenebis[4-isocyanatobenzene] and glycol ether.
P-16-0239 | 3/2/2016 | 5/31/2016 | H.B. Fuller Company | (G) Industrial adhesive | (G) Soybean oil, ester with tetra functional alcohol, polymer with 1,1'-methylenebis[isocyanatobenzene] and glycol ether.
P-16-0240 | 3/3/2016 | 6/1/2016 | CBI | (G) Resin for industrial coatings | (G) Styrene(ated) copolymer with alkylmethacrylate, hydroxyalkylacrylate and acrylic acid.
P-16-0241 | 3/4/2016 | 6/2/2016 | CBI | (G) Component of coatings | (G) Polyester.
P-16-0241 | 3/4/2016 | 6/2/2016 | CBI | (G) Component in ink formulations | (G) Polyester.
P-16-0241 | 3/4/2016 | 6/2/2016 | CBI | (G) Component in adhesive formulations | (G) Polyester.
P-16-0242 | 3/3/2016 | 6/1/2016 | International Flavors And Fragrances Inc. | (S) The notified substance will be used as a fragrance ingredient, being blended (mixed) with other fragrance ingredients to make fragrance oils that will be sold to industrial and commercial customers for their incorporation into soaps detergents cleaners air fresheners candles and other similar industrial, household and consumer products | (S) Cyclopentanol, 1-ethyl-2-(3-methylbutyl)-.
P-16-0243 | 3/3/2016 | 6/1/2016 | CBI | (S) Binder for paint and coatings | (S) Propanedioic acid, 1,3-diethyl ester, polymer with 2,2-dimethyl-1,3-propanediol and hexahydro-1,3-isobenzofurandione.
P-16-0246 | 3/4/2016 | 6/2/2016 | CBI | (G) Chemical intermediate | (S) 2-pyridinecarboxylic acid, 6-(4-chloro-2-fluoro-3-methoxyphenyl)-4,5-difluoro-, phenylmethyl ester.
P-16-0247 | 3/18/2016 | 6/16/2016 | CBI | (G) As a stabilizer | (S) 2-propenoic acid, 2-methyl-, polymer with hexadecyl 2-methyl-2-propenoate and octadecyl 2-methyl-2-propenoate.
P-16-0248 | 3/8/2016 | 6/6/2016 | CBI | (S) resin used for fiberglass reinforced plastic (frp) applications | (G) Methacrylate blocked polyurethane.
P-16-0249 | 3/10/2016 | 6/8/2016 | CBI | (G) Surface treatment substance | (G) Hydrazine derivatives.
P-16-0250 | 3/8/2016 | 6/6/2016 | Allnex Usa Inc. | (S) Resin for improving mechanical properties in automotive paints | (G) Substituted carbomonocycle, polymer with substituted alkanediol, alkanedioic acid, alkanediol, substituted alkanoic acid and substituted carbomonocycle, compd. with substituted alkane.
P-16-0251 | 3/11/2016 | 6/9/2016 | CBI | (G) Pulp bleaching catalyst | (G) Organic manganese catalyst.
P-16-0252 | 3/11/2016 | 6/9/2016 | CBI | (G) A reactive additive in polymeric formulations. This functional polymer may be used in industrial/commercial sealants, adhesives and coatings upon end-use it would be fully incorporated and bound into the cured polymers and resins | (G) Polysiloxane with functional groups.
P-16-0253 | 3/10/2016 | 6/8/2016 | CBI | (G) Fatty acid based glyceride blend | (G) Partial esters of fatty acids with glycerol.
P-16-0254 | 3/10/2016 | 6/8/2016 | CBI | (G) Oil & gas extraction | (G) Polymer of substituted acrylic acid and bromohexane.
P-16-0260 | 3/16/2016 | 6/14/2016 | CBI | (G) Gas generant in automotive air bag inflators | (G) Melamine nitrate.
P-16-0261 | 3/11/2016 | 6/9/2016 | CBI | (S) Intermediate | (S) Propanoic acid, 3-(dimethylamino)-2-methyl-, methyl ester.
P-16-0262 | 3/25/2016 | 6/23/2016 | CBI | (G) Bio-based base oil | (S) 9-octadecenoic acid (9z)-, homopolymer, reaction products with lauric acid, 2-ethylhexyl esters, hydrogenated.
P-16-0263 | 3/11/2016 | 6/9/2016 | CBI | (G) Fuel additive | (G) Alkene polymer with anhydride and imides.
P-16-0264 | 3/24/2016 | 6/22/2016 | CBI | (G) Reclaimed silicones | (G) Reclaimed fluorinated phenylmethyl siloxane volatiles.
P-16-0265 | 3/24/2016 | 6/22/2016 | CBI | (G) Lubricant | (G) Fluorinated phenylmethyl siloxane.
P-16-0266 | 3/17/2016 | 6/15/2016 | CBI | (G) Adhesives | (G) Polyester polyurethane polyol.
P-16-0267 | 3/16/2016 | 6/14/2016 | Allnex Usa Inc. | (S) Electro-deposition primer | (G) Fatty acids, polymers with substituted carbomonocycle, substituted alkylamines, heteromonocycle, substituted alkanoate, and alkyleneamine, lactates (salts).
P-16-0268 | 3/16/2016 | 6/14/2016 | Colonial Chemical, Inc. | (G) Personal care use | (S) Fatty acids, C18-unsaturated, dimers, hydrogenated, polymers with N-[3-(dimethylamino)propyl] coco amides, N1, N1-dimethyl -1,3-dipropanediamine and epichlorohydrin.
P-16-0269 | 3/16/2016 | 6/14/2016 | Weylchem US Inc. | (S) Reactant in the reaction | (S) Benzene,2-isothiocyanato-1,3-bis(1-methylethyl)-5-phenoxy-.
P-16-0270 | 3/18/2016 | 6/16/2016 | CBI | (G) Rheology modifier | (G) Derivative of substituted acrylamides copolymer.
P-16-0271 | 3/18/2016 | 6/16/2016 | Oxea Corporation | (S) Flexible pvc plasticizer for wire insulation | (S) 1,2,4-benzenetricarboxylic acid, 1,2,4-trinonyl ester.
P-16-0272 | 3/18/2016 | 6/16/2016 | CBI | (G) Ingredient in a formulated product | (S) Lecithins, soya, hydrogenated.
P-16-0273 | 3/21/2016 | 6/19/2016 | CBI | (G) Ingredient in metal working fluids | (G) Alkyl heteromonocycle, polymer with heteromonocycle, carboxyalkyl alkyl ether.
P-16-0274 | 3/21/2016 | 6/19/2016 | CBI | (G) Ingredient In metal working fluid | (G) Alkyl heteromonocycle, polymer with heteromonocycle, carboxyalkyl alkyl ether.
P-16-0275 | 3/21/2016 | 6/19/2016 | CBI | (G) Surfactant | (G) Rhamnolipid salt.
P-16-0276 | 3/21/2016 | 6/19/2016 | CBI | (G) Surfactant | (G) Rhamnolipids.
P-16-0278 | 3/24/2016 | 6/22/2016 | CBI | (G) Polymeric Film Former For Coatings | (G) 2-(chloromethyl)oxirane and 4,4′-methylenebis[alkylphenol] polymer with diphenol, reaction products with 2-propenoic acid, 2-methyl-, ethenylbenzene, ethyl 2-propenoate and 2-(dimethylamino)ethanol.
P-16-0280 | 3/25/2016 | 6/23/2016 | CBI | (G) Co-initiator | (G) Polyether polyol with aromatic dialkylamine.
P-16-0281 | 3/30/2016 | 6/28/2016 | CBI | (G) Reactive polyol | (G) Fatty alcohols—dimers, trimmers, polymers.
P-16-0282 | 3/28/2016 | 6/26/2016 | CBI | (S) Paint dryier | (G) Manganese complexes.
P-16-0283 | 3/29/2016 | 6/27/2016 | Allnex Usa Inc. | (S) Resin for automotive coatings | (G) Alkanedioic acid, polymer with substituted carbomonocycle, substituted alkane, substituted alkanoic acid and substituted alkyldiamine, compd. with substituted alkanol.
P-16-0284 | 3/29/2016 | 6/27/2016 | Deepak Nitrite Corporation Inc. | (S) Optical brightener for textiles paper and paperboard | (G) Anilino substituted bis-triazinyl derivative of 4,4′-diaminostilbene-2,2′disulfonic acid.
P-16-0285 | 3/31/2016 | 6/29/2016 | CBI | (G) Intermediate | (G) Ester amine.
P-16-0286 | 3/31/2016 | 6/29/2016 | CBI | (G) Wellbore additive | (G) Quaternary ammonium salts.

For the 39 NOCs received by EPA during this period, Table 3 provides the following information (to the extent that such information is not claimed as CBI): The EPA case number assigned to the NOC; the date the NOC was received by EPA; the projected date of commencement provided by the submitter in the NOC; and the chemical identity.

Table 2—NOCs Received From March 1, 2016 to March 31, 2016
Case No. | Received date | Commencement date | Chemical
P-00-1105 | 3/4/2016 | 11/18/2004 | (G) Hydroxy functional amino ester.
P-06-0205 | 3/31/2016 | 3/22/2016 | (S) Butanenitrile, 4-(dimethoxymethylsilyl)-2-methyl-.
P-09-0044 | 3/2/2016 | 2/23/2016 | (S) Ruthenium, [1,3-bis(2,4,6-trimethylphenyl)-2-imidazolidinylidene]dichloro[[2-(1-methylethoxy-ko)phenyl]methylene-kc]-, (sp-5-41).
P-13-0622 | 3/31/2016 | 3/27/2016 | (S) 1-propanamine,3-(diethoxymethylsilyl)-N, N-dimethyl-.
P-13-0879 | 3/24/2016 | 3/22/2016 | (G) Alkylphenol.
P-14-0035 | 3/22/2016 | 3/17/2016 | (S) Butanedioic acid, 2-methylene-, polymer with 2-propenoic acid and sodium 2-methyl-2-[(1-oxo-2-propen-1-yl)amino]-1-propanesulfonate (1:1), sodium salt.
P-14-0079 | 3/28/2016 | 6/25/2014 | (G) Synthetic polyol esters.
P-14-0334 | 3/1/2016 | 2/21/2016 | (S) 2-propenoic acid, 2-methyl-, heptadecyl ester, branched.
P-15-0028 | 3/30/2016 | 3/29/2016 | (S) Silicon oxycarbide, carbon silicon oxide.
P-15-0373 | 3/14/2016 | 3/12/2016 | (G) Substituted carbopolycycle, polymer with disubstituted alkane substituted alkyl methacrylate-blocked.
P-15-0438 | 3/8/2016 | 3/2/2016 | (G) Zinc carboxylate.
P-15-0550 | 3/22/2016 | 3/4/2016 | (G) Tetrahydroalkyl aromatic heterocyclic diketone, polymer with dialkyleneglycol, trialkyleneglycol, heterocyclic diketone and aromatic heterocyclic diketone.
P-15-0551 | 3/22/2016 | 3/4/2016 | (G) Aromatic heterocyclic diketone, polymer with dialkyleneglycol, trialkyleneglycol and alkenoic acid glycidyl ester.
P-15-0568 | 3/15/2016 | 3/9/2016 | (G) Alicyclic polycarboxylic acid, polymer with alkyl methacrylate, alkyldiol, alkyldioic acid, polyalkyleneoxide, alkoxy methacrylate, aromatic heterocyclic diketone, aromatic diisocyanate, heterocyclic ketone and dialkyleneglycol.
P-15-0574 | 3/3/2016 | 2/19/2016 | (G) 1,3-isobenzofurandione, 5,5à-[2,2,2-trifluoro-1-(trifluoromethyl) ethylidene]bis-, polymer with aromatic amines.
P-15-0583 | 3/3/2016 | 2/25/2016 | (G) Butanedioic acid, 2-[[(alkyl)amino]methyl]-, 1,4-bis(alkyl) ester.
P-15-0601 | 3/18/2016 | 2/23/2016 | (G) Polymer of humic acid salt, acrylamide and substituted sulfonic acid.
P-15-0646 | 3/29/2016 | 2/29/2016 | (S) Silane, (3-chloropropyl)diethoxymethyl-.
P-15-0651 | 3/23/2016 | 3/11/2016 | (G) Siloxanes and silicones, di methyl, polyether modified.
P-15-0735 | 3/16/2016 | 2/26/2016 | (S) Hydrocarbons, C5-rich, polymers with (6e)-7,11-dimethyl-3-methylene-1,6,10-dodecatriene, 2-methylbutene and methylstyrene.
P-15-0736 | 3/31/2016 | 3/30/2016 | (G) Castor oil, polymer with substituted alkanoic acid, substituted carbomonocycle, dialkyl substituted alkanediol and tdi, substituted alkanone-blocked.
P-15-0740 | 3/14/2016 | 3/11/2016 | (G) Disubstituted alkanedioic acid, polymer with substituted carbomonocycle, dialkyl carbonate, alkanediol and (alkylimino) bis [alkanol], acetate (salt).
P-15-0752 | 3/23/2016 | 3/3/2016 | (G) Polysiloxane, di-me, epoxyfunctional.
P-15-0765 | 3/3/2016 | 2/9/2016 | (S) 1,3-propanediol, 2-(dimethylamino)-2-(hydroxymethyl)-.
P-16-0014 | 3/23/2016 | 3/8/2016 | (G) Silicon, tris[dialkyl phenyl]-dialkyl-dioxoalkane-naphthalene disulfonate.
P-16-0020 | 3/9/2016 | 3/8/2016 | (G) Polyethyleneglycol modified polyacrylate, compd. with alcohol amine.
P-16-0037 | 3/16/2016 | 2/26/2016 | (S) Hydrocarbons, C5-rich, polymers with (6e)-7,11-dimethyl-3-methylene-1,6,10-dodecatriene, 2-methylbutene and methylstyrene, manuf. of, by-products from, C20-40 fraction.
P-16-0041 | 3/4/2016 | 2/22/2016 | (G) Alkohol alkoxylate.
P-16-0052 | 3/31/2016 | 3/3/2016 | (G) Dialkylol amine, polymer with succinic anhydride and aromatic carboxylic acid.
P-16-0053 | 3/28/2016 | 3/21/2016 | (G) Acrylated polycarbonate polyol.
P-16-0073 | 3/4/2016 | 2/11/2016 | (G) Styrene-acrylate polymer.
P-16-0077 | 3/22/2016 | 3/20/2016 | (S) 5-octenoic acid, methyl ester, (5z)-.
P-16-0087 | 3/30/2016 | 3/27/2016 | (G) Dicaroxylic acid, polymer with aminoalkanoic acid and polyether polyol.
P-16-0105 | 3/7/2016 | 2/25/2016 | (G) Alkyl polyol salt.
P-16-0111 | 3/9/2016 | 3/4/2016 | (G) Fatty acids, reaction products with alkylamine, polymers with substituted carbomonocycle, substituted alkylamines, heteromonocycle and substituted alkanoate, acetates (salts).
P-16-0112 | 3/9/2016 | 3/4/2016 | (G) Substituted heteromonocycle, polymer with substituted carbomonocycle and alkyl (hydroxyalkyl)alkanediol, alkoxyalkanol-blocked.
P-16-0118 | 3/30/2016 | 3/21/2016 | (S) 2-propenoic acid, 2-methyl-, 2-dodecylhexadecyl ester, polymer with methyl 2-methyl-2-propenoate and 2-tetradecyloctadecyl 2-methyl-2-propenoate.
P-92-0038 | 3/16/2016 | 2/25/2016 | (S) Polytitanocarbosilane.
P-99-0100 | 3/23/2016 | 3/21/2016 | (G) Polyether amino acrylate.

Authority: 15 U.S.C. 2601 et seq.

Dated: April 26, 2016.
Pamela S. Myrick,
Director, Information Management Division, Office of Pollution Prevention and Toxics.

[FR Doc. 2016-10229 Filed 4-29-16; 8:45 am]

BILLING CODE 6560-50-P